DEPARTMENT OF ENERGY

Federal Energy Regulatory Commission

[Docket No. RP00-513-001]

Colorado Interstate Gas Company; Notice of Tariff Filing

September 19, 2000.

Take notice that on September 8, 2000, Colorado Interstate Gas Company (CIG), tendered for filing to become part of its FERC Gas Tariff, First Revised Volume No. 1, Substitute Sixteenth Revised Sheet No. 10, to be effective October 1, 2000.

CIG states that on August 31, 2000, CIG made its annual filing adjusting its Gas Quality Control Surcharge(s). It has come to CIG's attention that the tariff sheets included herein contained a typographical error. Therefore, CIG is herein submitting substitute tariff sheets which correct such error.

CIG further states that copies of this filing have been served on CIG's jurisdictional customers and public bodies.

Any person desiring to protest this filing should file a protest with the Federal Energy Regulatory Commission, 888 Firrst Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-2222 for assistance).

David P. Boergers,
Secretary.

[FR Doc. 00-24518 Filed 9-22-00; 8:45 am]

BILLING CODE 6717-01-M